FEDERAL COMMUNICATIONS COMMISSION

47 CFR Part 73

[DA 01-1482; MM Docket No. 01-130, RM-10147; MM Docket No. 01-131, RM-10148; MM Docket No. 01-132, RM-10149]

Radio Broadcasting Services; Batesville, TX; Benjamin, TX; and Junction, TX

AGENCY: Federal Communications Commission.

ACTION: Proposed rule.

SUMMARY: This document proposes new allotments to Batesville, TX; Benjamin, TX; and Junction, TX. The Commission requests comments on a petition filed by Charles Crawford proposing the allotment of Channel 250A at Batesville, Texas, as the community's first local aural transmission service. Channel 250A can be allotted to Batesville in compliance with the Commission's minimum distance separation requirements with a site restriction of 12.9 kilometers (8.0 miles) northeast of Batesville. The coordinates for Channel 250A at Batesville are 29-01-34 North Latitude and 99-30-59 West Longitude. Since Batesville is located within 320 kilometers (199 miles) of the U.S.-Mexican border, concurrence of the Mexican government has been requested. See Supplementary Information.

DATES: Comments must be filed on or before August 13, 2001, and reply comments on or before August 28, 2001.

ADDRESSES: Federal Communications Commission, Washington, DC, 20554. In addition to filing comments with the FCC, interested parties should serve the petitioner, as follows: Charles Crawford, 4553 Bordeaux Ave., Dallas, Texas 75205.

FOR FURTHER INFORMATION CONTACT: R. Barthen Gorman, Mass Media Bureau, (202) 418-2180.

SUPPLEMENTARY INFORMATION: This is a synopsis of the Commission's Notice of Proposed Rule Making, MM Docket No. 01-130; MM Docket No. 01-131; and MM Docket No. 01-132, adopted June 13, 2001, and released June 22, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission requests comments on a petition filed by Charles Crawford proposing the allotment of Channel 257C2 at Benjamin, Texas, as the community's first local aural transmission service. Channel 257C2 can be allotted to Benjamin in compliance with the Commission's minimum distance separation requirements with a site restriction of 4.4 kilometers (2.7 miles) northwest of Benjamin. The coordinates for Channel 257C2 at Benjamin are 33-36-04 North Latitude and 99-50-04 West Longitude.

The Commission requests comments on a petition filed by Charles Crawford proposing the allotment of Channel 297A at Junction, Texas, as the community's second local aural FM transmission service. Channel 297A can be allotted to Junction in compliance with the Commission's minimum distance separation requirements with a site restriction of 3.5 kilometers (2.2 miles) southeast of Junction. The coordinates for Channel 297A at Junction are 30-27-37 North Latitude and 99-45-22 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Texas, is amended by adding Batesville, Channel 250A; Benjamin, Channel 257C2; and Channel 297A at Junction.

Federal Communications Commission.
John A. Karousos,
Chief, Allocations Branch, Policy and Rules Division, Mass Media Bureau.

[FR Doc. 01-16795 Filed 7-3-01; 8:45 am]

BILLING CODE 6712-01-U